DEPARTMENT OF TRANSPORTATION

National Highway Traffic Safety Administration

[Docket No. NHTSA 2004-18923; Notice 2]

CCI Manufacturing IL Corporation, Grant of Petition for Decision of Inconsequential Noncompliance

CCI Manufacturing IL Corporation (CCI) has determined that certain brake fluid containers manufactured by its supplier, Gold Eagle, do not comply with S5.2.2.2(d) of 49 CFR 571.116, Federal Motor Vehicle Safety Standard (FMVSS) No. 116, “Motor vehicle brake fluids.” Pursuant to 49 U.S.C. 30118(d) and 30120(h), CCI has petitioned for a determination that this noncompliance is inconsequential to motor vehicle safety and has filed an appropriate report pursuant to 49 CFR Part 573, “Defect and Noncompliance Reports.” Notice of receipt of a petition was published, with a 30-day comment period, on August 31, 2004, in the Federal Register (69 FR 53130). NHTSA received no comments.

A total of approximately 21,204 units of brake fluid containers manufactured in March 2004 are affected. S5.2.2.2 of FMVSS No. 116 requires that:

Each packager of brake fluid shall furnish the information specified in [paragraph d] of this S5.2.2.2 by clearly marking it on each brake fluid container or on a label (labels) permanently affixed to the container * * * After being subjected to the operations and conditions specified in S6.14, the information required by this section shall be legible. * * *

The information specified in paragraph (d) of S5.2.2.2 is “[a] serial number identifying the package lot and date of packaging.” With regard to the noncompliant brake fluid containers, the lot and date codes required by S5.2.2.2(d) are not legible after the containers are subjected to the test conditions of S6.14.

CCI believes that the noncompliance is inconsequential to motor vehicle safety and that no corrective action is warranted. CCI stated:

NHTSA has identified only one purpose for [the lot and date code] marking: namely, “to facilitate determination of the extent of defective brake fluid should such be discovered.” * * * While it is clearly in the manufacturer's interest to be able to limit the “extent of defective brake fluid should such be discovered,” by reference to lot/date code markings, there is no serious risk to motor vehicle safety if that information is lost. Instead, in the event of a defect or noncompliance determination affecting certain batches of brake fluid, the brake fluid manufacturer would be compelled to recall a larger population of brake fluid containers than it otherwise would need to do, because it could not rely on the presence of a legible lot/date code marking to limit the population of the recall.

CCI explained that it sold the affected brake fluid only to Mercedes-Benz, who then distributed it to its dealerships and authorized repair facilities. CCI does not believe Mercedes-Benz offers the brake fluid for retail sale to customers. CCI stated:

First, Mercedes-Benz purchases and distributes the brake fluid to its dealerships and authorized repair facilities in bulk quantities, and those products are used quickly. Even in the unlikely event that a dealership or repair facility could not read the lot/date code on a particular container of brake fluid, that entity would likely have other containers from the same lot/date code on its premises, and could ascertain the lot/date code for the fouled container from its companion products. Second, CCI believes that all of the noncompliant containers in Mercedes-Benz's inventory may already have been used.

The agency agrees that under the circumstances, the lot and date information could most likely be determined if necessary. In addition, the brake fluid containers comply with all other requirements of FMVSS No. 116 and the brake fluid itself complies with the performance requirements of FMVSS No. 116. CCI has corrected the problem.

In consideration of the foregoing, NHTSA has decided that the petitioner has met its burden of persuasion that the noncompliance described is inconsequential to motor vehicle safety. Accordingly, CCI's petition is granted and the petitioner is exempted from the obligation of providing notification of, and a remedy for, the noncompliance.

Authority: 49 U.S.C. 30118, 30120; delegations of authority at CFR 1.50 and 501.8.

Issued on: October 19, 2004.
Kenneth N. Weinstein,
Associate Administrator for Enforcement.

[FR Doc. 04-23877 Filed 10-25-04; 8:45 am]

BILLING CODE 4910-59-P